DEPARTMENT OF EDUCATION

[Docket ID ED-2021-OESE-0152]

Final Priority and Requirements—Full-Service Community Schools

AGENCY: Office of Elementary and Secondary Education, Department of Education.

ACTION: Final priority and requirements.

SUMMARY: The Department of Education (Department) announces a priority and requirements under the Full-Service Community Schools (FSCS) program, Assistance Listing Number 84.215J. The Department may use the priority and requirements for competitions in fiscal year (FY) 2023 and in later years. The Department intends for the priority and requirements to support competitions under the FSCS program for the purpose of conducting national evaluations of the program's implementation and effectiveness.

DATES: The priority and requirements are effective July 7, 2023.

FOR FURTHER INFORMATION CONTACT: Jane Hodgdon. U.S. Department of Education, 400 Maryland Avenue SW, room 3E346, Washington, DC 20202. Telephone: 202-245-6057. Email: FSCS@ed.gov.

If you are deaf, hard of hearing, or have a speech disability and wish to access telecommunications relay services, please dial 7-1-1.

SUPPLEMENTARY INFORMATION:

Purpose of Program: The FSCS program, established under sections 4621-4623 and 4625 of the Elementary and Secondary Education Act, as amended (ESEA), provides support for the planning, implementation, and operation of full-service community schools that improve the coordination, integration, accessibility, and effectiveness of services for children and families, particularly for children attending schools with concentrated poverty, including rural schools.

Program Authority: Sections 4621-4623 and 4625 of the ESEA, 20 U.S.C. 7271-7273, 7275.

We published a notice of proposed priorities, requirements, definitions, and selection criteria for this program in the Federal Register on January 12, 2022 (87 FR 1709) (the NPP). That document contained background information and rationale for proposing the priorities, requirements, definitions, and selection criteria, including a priority for participation in a national evaluation of the program's effectiveness using a randomized controlled trial (i.e., experimental) design. We then published a notice of final priorities, requirements, definitions, and selection criteria for this program in the Federal Register on July 13, 2022 (87 FR 41675) (the 2022 FSCS NFP). In the 2022 FSCS NFP, we discussed a plan to conduct additional outreach before finalizing a priority on a national evaluation.

Public Comment: In response to our invitation in the NPP, 19 parties submitted comments pertinent to the proposed national evaluation priority, which were addressed in the 2022 FSCS NFP. In the 2022 FSCS NFP, the Department communicated our appreciation for the comments, concerns, and support shared by the field regarding a national evaluation of the FSCS program. We committed to working with grantees and other stakeholders to design and conduct the national evaluation required under section 4625(f) of the ESEA. To allow more time to conduct outreach with the field, the Department delayed launching the national evaluation.

We discuss substantive issues under each priority or requirement to which they pertain. Generally, we do not address technical and other minor changes or suggested changes the law does not authorize us to make. In addition, we do not address comments that are outside the scope of the proposed priority and requirements.

Analysis of Comments and Changes: An analysis of the comments and of any changes in the priority and requirements related to the proposed national evaluation priority follows.

Proposed Priority 4—Participation in a National Evaluation.

Comments: We summarized the 19 comments received related to Priority 4 in the 2022 FSCS NFP.

Discussion: As discussed in the 2022 FSCS NFP, the Department appreciates the comments, concerns, and support shared by the field regarding a national evaluation of the FSCS program and we are committed to working with grantees and other stakeholders to design and implement the national evaluation required under section 4625(f) of the ESEA, which requires the Department's Institute of Education Sciences (IES) to conduct an evaluation of the effectiveness of the FSCS program grants. To allow more time to conduct outreach with the field, the Department did not begin the national evaluation with the FY 2022 grant competition.

In response to comments expressing concern about the design of the national evaluation, section 4625(f) of the ESEA requires a national evaluation that assesses the effectiveness of the grants. Section 4625(g) of the ESEA requires that grantees conduct local evaluations to assess annual progress achieved, refine and improve activities, and make the results publicly available. The local and national evaluations are separate but complementary, and one cannot be used in place of the other. The alternative designs suggested by commenters for a national evaluation would not meet the requirements in section 4625(f). While a national evaluation of the program's implementation would be useful and is included in the randomized controlled trial design described in the national evaluation priority, a national evaluation of implementation alone would not fulfill the mandate for evaluating the program's effectiveness. While two of the 19 comments received supported conducting a randomized controlled trial evaluation beginning in 2022, the majority of commenters and stakeholders that provided input through subsequent outreach shared that it would be useful to the field to learn about the implementation of FSCS grants prior to assessing their effectiveness. We have decided to first conduct a national evaluation of program implementation and will share those implementation findings with the field. We will use the interim implementation findings to inform and enhance the design and execution of a subsequent national evaluation of the program's effectiveness using a randomized controlled trial.

Another commenter suggested that an alternative design, a quasi-experimental study, would be very challenging to execute with sufficient scientific rigor at a national level. A quasi-experimental design would require the identification of a comparison group of non-FSCS funded schools that are very similar at baseline to the schools receiving grant funds. It would likely be very difficult to find schools not implementing community schools strategies that are similar enough to schools receiving FSCS grant funds and willing to provide the detailed data required for the evaluation. While such a quasi-experimental design approach has been used in evaluating community schools within more limited contexts, such as a single city or one or two States, it would be much more difficult to identify credible comparison schools for each FSCS-funded school given the diverse and widespread distribution of schools receiving FSCS grant funds. Even if an ostensibly suitable comparison group at baseline could be identified, it would not be possible to fully determine whether there are factors in the comparison schools that make them more or less likely to have better outcomes over time and to disentangle those factors from the effects of the FSCS grant funds.

One commenter asked how the Department will ensure that the outcomes measured go beyond test scores and include outcomes such as student physical and mental health and a range of key non-cognitive competencies, such as social and emotional learning and increased sense of safety and well-being. Using a national evaluation of implementation to inform the national evaluation of effectiveness required under section 4625(f) of the ESEA provides the Department with an opportunity to better understand what can be measured, including outcomes related to health, social emotional learning, safety, and well-being. Further, the 13 program indicators that were included in the 2022 FSCS NFP include measures related to attendance, school climate, discipline, expanded learning time, and family engagement, among others.

The Department agrees with commenters that requiring applicants to propose at least four schools to receive grant funding could exclude some districts. Therefore, in the priority for a national evaluation of effectiveness using a randomized controlled trial, we are reducing the minimum number of proposed schools from four to two.

In response to comments that a randomized controlled trial would be unfair, the Department disagrees. In all FSCS competitions, there is not sufficient funding for every interested and eligible school. Whatever total grant funds are available in any year, under a randomized controlled trial design, more applicants and localities would receive FSCS grants, though not every one of their interested schools could participate or benefit from that funding. Without a randomized controlled trial, fewer localities receive grants, though all interested schools can participate in FSCS funding. Therefore, whether there is a randomized controlled trial or not, there will be schools that will not receive grant funds or participate under a funded grant. In either case, the Department would be awarding the same total amount of money to support FSCS nationally.

Regarding comments related to data collection, the Department agrees that it is vital to engage stakeholders in a variety of ways, in part to ensure that any national evaluation plans are well-informed and reflect the reality of grantee variation. Since receiving feedback on the national evaluation priority, we interviewed key community schools researchers and practitioners. We synthesized the interview findings and shared updated evaluation plans in a webinar with the field in February 2023. We will continue to seek stakeholder input and incorporate multiple perspectives, as feasible and aligned with the theory of action, in all national evaluations.

Regarding recommendations that the Department engage a technical advisory group, we also agree there is substantial value in obtaining multiple perspectives on any national evaluation of FSCS. The evaluation currently has a Technical Working Group comprised of community schools researchers and practitioners. This group met in October 2020 to advise on initial evaluation plans. We will continue to consult these experts, or experts with similar expertise, as the design and execution of a national evaluation of FSCS implementation and effectiveness moves forward. The Department agrees that mandatory participation in any national evaluation is essential for the results to reflect the diversity of grantees and their efforts.

Following the publication of the 2022 FSCS NFP and after discussions with FSCS grantees and other stakeholders, the Department has determined that a robust national evaluation of FSCS grantee implementation, as recommended in comments received on the NPP, will help the field learn about implementation, provide information to the Department to help us target supports for applicants and grantees, and inform a subsequent national evaluation of effectiveness that meets the statutory requirement. Accordingly, and as discussed in more detail below, we are establishing requirements that applicants include an assurance to participate in the national evaluation assessing the implementation of the FSCS program and that grantees participate in the national evaluation assessing the implementation of the FSCS program.

To meet the statutory requirement, the Department will use information learned about implementation of FSCS grants to develop a rigorous national evaluation of effectiveness. In order to conduct a subsequent effectiveness study, we are establishing a priority for participation in a future national evaluation of effectiveness using a randomized controlled trial design.

Changes: The Department has finalized a priority for participation in a national evaluation of effectiveness of the FSCS program using a randomized controlled trial design that requires applicants to propose at least two, rather than four, schools to potentially receive grant funding.

Other Requirements

Comments: We summarized comments received related to FSCS program requirements in the 2022 FSCS NFP.

As discussed in connection with the national evaluation proposed priority from the 2022 FSCS NPP, numerous commenters recommended that the Department conduct an evaluation using a design other than a randomized controlled trial design. There were four comments related to differences in implementation of full-service community schools across schools because the strategy is specific to the needs and assets of individual communities and schools.

Discussion: We agree that it is important to study how grantees are implementing their FSCS grants. In order to ensure that FSCS applicants are fully prepared to participate in a national evaluation of the implementation of the FSCS program, the Department is establishing an application requirement and a program requirement that grantees must work with IES during the assessment of implementation of the FSCS program.

Changes: The Department has added an application requirement that applicants include an assurance that the eligible entity and its partner entities will participate in a national evaluation assessing the implementation of the FSCS program and a program requirement that grantees will work with IES during the assessment of implementation of the FSCS program.

Final Priority

This document contains one final priority.

Participation in a National Evaluation of Effectiveness Using a Randomized Controlled Trial Design.

Projects in which the applicant agrees to—

(a) Carry out the FSCS grant in a manner consistent with a randomized controlled trial evaluation design developed by the Department and its national evaluator;

(b) Propose at least two schools to potentially receive grant funding in the national evaluation of effectiveness. The proposed schools can be elementary, middle, and/or high schools;

(c) Not currently be fully implementing all four pillars of full-service community schools (as defined in the 2022 FSCS NFP) in any of the schools proposed for the grant;

(d) Consent to the evaluator's random assignment of approximately one-half of the schools proposed by the applicant to receive funding and begin implementing the FSCS approach; and the other half of schools to not receive funding from any FSCS grant for 3 years following random assignment;

(e) Not promote or begin using grant funds for the implementation of the FSCS approach in any proposed schools until the grantee receives notification from the national evaluator about the random assignment of its schools to receive FSCS grant funding or not; and

(f) Cooperate, consistent with applicable privacy requirements, with evaluation data collection activities, including: surveys of grantee directors, principals of both groups of proposed schools (those randomly assigned to receive grant funding and schools assigned to not receive grant funding), and a representative sample of parents/guardians of students attending the two groups of grantee schools; and provision of district administrative records on educators (e.g., credentials, experience) and students (e.g., academic assessment scores, course taking and credit accumulation, attendance) in the two groups of grantee schools. These data collections will be carried out at multiple points over the grant period.

Note: From among the proposed schools, applicants may designate one group of two or more schools that serve the same grade levels as “highest need.” If the applicant receives a grant, the national evaluation of effectiveness will ensure that at least one of the schools in the group receives FSCS funding.

Types of Priorities: When inviting applications for a competition using one or more priorities, we designate the type of each priority as absolute, competitive preference, or invitational through a notice in the Federal Register. The effect of each type of priority follows:

Absolute priority: Under an absolute priority, we consider only applications that meet the priority (34 CFR 75.105C(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

This document does not preclude us from proposing additional priorities, requirements, definitions, or selection criteria, subject to meeting applicable rulemaking requirements.

Note: This document does not solicit applications. In any year in which we choose to use one or more of these priorities, we invite applications through a notice in the Federal Register.

Final Requirements

This document contains two final requirements.

Assurance of Participation in a National Evaluation Assessing the Implementation of the FSCS Program.

Each applicant must include an assurance that the eligible entity and its partner entities will participate in a national evaluation assessing the implementation of the FSCS program, which may include, but is not limited to, the following:

(a) Completing surveys of grantee organizations (which may include service provider partners), grantee schools (which may include multiple individuals within each school such as the principal and the service coordinator), and potentially a sample of teachers within grantee schools;

(b) Participating in interviews of grantee organizations, grantee schools, and/or a sample of teachers within grantee schools;

(c) Providing administrative data, such as student absenteeism rates and high school graduation rates;

(d) Cooperating with data collection at several points during the grant period, such as shortly after grant award (baseline round of data collection), during the middle of the grant period (interim round of data collection), and toward the end of the grant period (final round of data collection); and

(e) Assisting in facilitating connections between each grantee's local evaluator and the national evaluation of implementation to ensure efficiency and coordination between the evaluation efforts.

Participate in a National Evaluation Assessing the Implementation of the FSCS Program.

Each grantee must participate in a national evaluation assessing the implementation of the FSCS program, which may include, but is not limited to, the following:

(a) Completing surveys of grantee organizations (which may include service provider partners), grantee schools (which may include multiple individuals within each school such as the principal and the service coordinator), and potentially a sample of teachers within grantee schools;

(b) Participating in interviews of grantee organizations, grantee schools, and/or a sample of teachers within grantee schools;

(c) Providing administrative data, such as student absenteeism rates and high school graduation rates;

(d) Cooperating with data collection at several points during the grant period, such as shortly after grant award (baseline round of data collection), during the middle of the grant period (interim round of data collection), and toward the end of the grant period (final round of data collection); and

(e) Assisting in facilitating connections between each grantee's local evaluator and the national evaluation of implementation to ensure efficiency and coordination between the evaluation efforts.

Executive Orders 12866, 13563, and 14094

Regulatory Impact Analysis

Under Executive Order 12866, the Office of Information and Regulatory Affairs (OIRA) in the Office of Management and Budget (OMB) must determine whether this regulatory action is “significant” and, therefore, subject to the requirements of the Executive order and subject to review by OMB. Section 3(f) of Executive Order 12866, as amended by Executive Order 14094, defines a “significant regulatory action” as an action likely to result in a rule that may—

(1) Have an annual effect on the economy of $200 million or more (adjusted every 3 years by the Administrator of OIRA for changes in gross domestic product); or adversely affect in a material way the economy, a sector of the economy, productivity, competition, jobs, the environment, public health or safety, or State, local, territorial, or Tribal governments or communities;

(2) Create a serious inconsistency or otherwise interfere with an action taken or planned by another agency;

(3) Materially alter the budgetary impacts of entitlement grants, user fees, or loan programs or the rights and obligations of recipients thereof; or

(4) Raise legal or policy issues for which centralized review would meaningfully further the President's priorities or the principles stated in the Executive order, as specifically authorized in a timely manner by the Administrator of OIRA in each case.

This final regulatory action is not a significant regulatory action subject to review by OMB under section 3(f) of Executive Order 12866 (as amended by Executive Order 14094). Pursuant to the Congressional Review Act (5 U.S.C. 801 et seq.), OIRA designated this rule as not a “major rule,” as defined by 5 U.S.C. 804(2).

We have also reviewed this final regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” OIRA has emphasized that these techniques may include “identifying changing future compliance costs that might result from technological innovation or anticipated behavioral changes.”

We are issuing the final priority and requirements only on a reasoned determination that the benefits justify the costs. In choosing among alternative regulatory approaches, we selected those approaches that maximize net benefits. Based on the analysis that follows, the Department believes that this regulatory action is consistent with the principles in Executive Order 13563.

We also have determined that this regulatory action does not unduly interfere with State, local, and Tribal governments in the exercise of their governmental functions.

In accordance with these Executive orders, the Department has assessed the potential costs and benefits, both quantitative and qualitative, of this regulatory action. The potential costs are those resulting from statutory requirements and those we have determined as necessary for administering the Department's programs and activities.

Summary of Costs and Benefits: The Department believes that the final priority and requirements will not impose significant costs on the entities eligible to apply for FSCS. We also believe that the benefits of implementing the final priority and requirements outweigh any associated costs.

The potential costs are those resulting from statutory requirements and those we have determined as necessary for administering the Department's programs and activities.

The priority and requirements give the Department the opportunity to conduct a national evaluation of the FSCS program, as required in section 4625(f) of the ESEA.

Because the final priority and requirements would neither expand nor restrict the universe of eligible entities for any Department grant program, and since application submission and participation in our discretionary grant programs is voluntary, there are no costs associated with this priority and requirements for applicants; grantees would use grant funds for participation in evaluation activities.

Regulatory Flexibility Act Certification: The Secretary certifies that this final regulatory action will not have a significant economic impact on a substantial number of small entities. The U.S. Small Business Administration Size Standards define “small entities” as for-profit or nonprofit institutions with total annual revenue below $7,000,000 or, if they are institutions controlled by small governmental jurisdictions (that are comprised of cities, counties, towns, townships, villages, school districts, or special districts), with a population of less than 50,000.

The small entities that this regulatory action will affect are local educational agencies, the Bureau of Indian Education, and community-based organizations, nonprofit organizations, and other public or private entities that may apply. We believe that the costs imposed on an applicant by the final priority and requirements will be limited to paperwork burden related to preparing an application and that the benefits of implementing this final priority and requirements will outweigh any costs incurred by the applicant. Grantees will incur costs related to participating in the national evaluation and implementation study; however, grant funds will be available to meet those costs. Therefore, we do not believe that the final priority and requirements will significantly impact small entities beyond the potential for receiving additional support should the small entity receive a competitive grant from the Department.

Paperwork Reduction Act of 1995

As part of its continuing effort to reduce paperwork and respondent burden, the Department provides the general public and Federal agencies with an opportunity to comment on proposed and continuing collections of information, in accordance with the Paperwork Reduction Act of 1995 (PRA) (44 U.S.C. 3506(c)(2)(A)). This helps ensure that: The public understands the Department's collection instructions, respondents can provide the requested data in the desired format, reporting burden (time and financial resources) is minimized, collection instruments are clearly understood, and the Department can properly assess the impact of collection requirements on respondents.

The final priority and requirements contain information collection requirements that are approved by OMB under OMB control number 1894-0006.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: On request to the contact person listed under FOR FURTHER INFORMATION CONTACT, individuals with disabilities can obtain this document in an accessible format. The Department will provide the requestor with an accessible format that may include Rich Text Format (RTF) or text format, a thumb drive, an MP3 file, braille, large print, audiotape, or compact disc or other accessible format.

Electronic Access to This Document: The official version of this document is the document published in the Federal Register. You may access the official edition of the Federal Register and the Code of Federal Regulations at www.govinfo.gov. At this site you can view this document, as well as all other documents of this Department published in the Federal Register, in text or Adobe Portable Document Format (PDF). To use PDF, you must have Adobe Acrobat Reader, which is available free at the site.

You may also access documents of the Department published in the Federal Register by using the article search feature at www.federalregister.gov. Specifically, through the advanced search feature at this site, you can limit your search to documents published by the Department.

James F. Lane,
Principal Deputy Assistant Secretary, Delegated the Authority to Perform the Functions and Duties of the Assistant Secretary, Office of Elementary and Secondary Education.

[FR Doc. 2023-12144 Filed 6-6-23; 8:45 am]

BILLING CODE 4000-01-P